ENVIRONMENTAL PROTECTION AGENCY

[OAR-2003-0011, FRL-7470-9]

Agency Information Collection Activities: Proposed Collection; Comment Request; Investigations Into Possible Noncompliance of Motor Vehicles

AGENCY: Environmental Protection Agency (EPA).

ACTION: Notice.

SUMMARY: In compliance with the Paperwork Reduction Act (44 U.S.C. 3051 et seq.), this document announces that EPA is planning to submit the following continuing Information Collection Request (ICR) to the Office of Management and Budget (OMB): Investigations into Possible Noncompliance of Motor Vehicles, EPA ICR Number 0222.06, OMB 2060-0086, expires 31 August 2003. Before submitting the ICR to OMB for review and approval, EPA is soliciting comments on specific aspects of the proposed information collection as described below.

DATES: Comments must be submitted on or before May 20, 2003.

ADDRESSES: Follow the detailed instructions in SUPPLEMENTARY INFORMATION.

FOR FURTHER INFORMATION CONTACT: Richard W. Nash, Certification and Compliance Division, U.S. Environmental Protection Agency, 2000 Traverwood Dr, Ann Arbor MI 48105, (734) 214-4412, nash.dick@epa.gov.

SUPPLEMENTARY INFORMATION: EPA has established a public docket for this ICR under Docket ID number OAR-2003-0011, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or public comments, access the index listing of the contents of the public docket, and to access those documents in the public docket that are available electronically. Once in the system, select “search,” then key in the docket ID number identified above.

Any comments related to this ICR should be submitted to EPA and OMB within 60 days of this notice, and according to the following detailed instructions: (1) Submit your comments to EPA online using EDOCKET (our preferred method), by email to a-and-r- docket@epamail.epa.gov, or by mail to: EPA Docket Center, Environmental Protection Agency, Air and Radiation Docket, Mailcode 6102T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are owners of motor vehicles.

Title: Investigations into Possible Noncompliance of Motor Vehicles. (OMB Control Number 2060-0086; EPA ICR Number 0222.06, expiring 31 August 2003.)

Abstract: As part of an integrated compliance program, EPA occasionally needs to evaluate the emission performance of in-use motor vehicles. In order to perform this function, EPA must solicit certain information from the vehicles owner/lessee. Participation in the information survey, as well as the vehicle evaluation, is strictly voluntary. Typically, a group of 25 potential participants is identified. They are asked to return a postcard indicating their willingness to participate and if so, to verify some limited vehicle information. They are also asked when it would be suitable to contact them. Those willing to participate are called and asked about a half dozen questions concerning vehicle condition, operation and maintenance. Depending on owner/lessee response, additional groups of potential participants may be contacted until a sufficient number of vehicles has been obtained.

Information collected is used to assure that vehicles procured meet certain criteria. For example, since a manufacturer's responsibility to recall passenger cars is limited to 10 years of age or 100,000 miles of use, vehicles tested to establish potential recall liability must also meet those criteria. Other testing programs and vehicle types have different criteria. All information is publicly available.

The previous description generally describes how EPA obtains information on in-use passenger cars and light trucks from individual owners and lessees. Heavy duty trucks, those commonly referred to as over “¾ ton” capacity, are usually employed commercially; typically they are part of a “fleet” of identical (or very similar) vehicles. Consequently, EPA employs a slightly different method to obtain them. Potential owners/lessees can be found in registrations lists; engine manufacturers will also supply identities of their customers. Occasionally, a fleet operator will contact EPA and volunteer to participate. Once potential sources are identified, EPA will make brief telephone calls to the fleet managers to ascertain if they wish to participate. If the response is positive, EPA will visit the fleet to inspect vehicles and review maintenance records. (Fleets typically keep very good records on each vehicle; EPA can quickly determine if a particular unit is acceptable.) A single fleet can supply multiple vehicles and, typically, is quite willing to participate. Therefore, EPA makes far fewer inquiries than with individual owners of light vehicles. Based on comments, EPA may decide to address light and heavy duty vehicles separately.

EPA uses several techniques in selecting the class or category of motor vehicles to be evaluated. First, if based on other information (e.g., defect reports, service bulletins) there is a suspicion that a problem exists; EPA may target a particular group. Second, groups with a large number of vehicles have potential for significant air quality effects; they may be selected for that reason. New emission control technology without a proven history is another factor in making selections. Finally, some vehicle classes are selected on a random basis.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates that approximately 1800 vehicle owners will be contacted, on average they will spend approximately 20 minutes each responding for a total burden of approximately 600 hours. The average reflects those who decline to participate (who will spend a short time reading the solicitation letter and discard it) as well as those who participate and will be asked a few additional questions about vehicle condition, operation and maintenance. This collection is entirely voluntary, there are no recordkeeping requirements. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 14, 2003.
Robert Brenner,
Acting Assistant Administrator, Office of Air and Radiation.

[FR Doc. 03-6813 Filed 3-20-03; 8:45 am]

BILLING CODE 6560-50-M